ENVIRONMENTAL PROTECTION AGENCY

40 CFR Parts 720, 721, 723, and 725

[EPA-HQ-OPPT-2022-0902; FRL-7906-03-OCSPP]

RIN 2070-AK65

Updates to New Chemicals Regulations Under the Toxic Substances Control Act (TSCA); Extension of Comment Period

AGENCY: Environmental Protection Agency (EPA).

ACTION: Proposed rule; extension of comment period.

SUMMARY: The Environmental Protection Agency (EPA) is extending the comment period for the proposed rule entitled “Updates to New Chemicals Regulations Under the Toxic Substances Control Act (TSCA)” that published in the Federal Register on May 26, 2023, with an established public comment period that was scheduled to end on July 25, 2023. In response to requests for additional time to develop and submit comments on the proposed rule, EPA is extending the comment period for an additional 14 days, i.e., from July 25, 2023, to August 8, 2023.

DATES: The comment period for the proposed rule published on May 26, 2023, at 88 FR 34100 (FRL-7906-01-OCSPP), is now extended. Comments must be received on or before August 8, 2023.

ADDRESSES: Submit your comments, identified by docket identification (ID) number EPA-HQ-OPPT-2022-0902, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Tyler Lloyd, New Chemicals Division (7405M), Office of Pollution Prevention and Toxics, Environmental Protection Agency, 1200 Pennsylvania Ave. NW, Washington, DC 20460-0001; telephone number: (202) 564-4016; email address: lloyd.tyler@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register of May 26, 2023 (88 FR 34100) (FRL-7906-01-OCSPP) for 14 days, from July 25, 2023, to August 8, 2023.

This extension is in response to requests that EPA received which asked for additional time to develop and submit comments on the proposed rule. After considering several factors, EPA believes it is appropriate to extend the comment period for 14 days to give stakeholders additional time to review the documents and prepare comments. If you have questions, consult the technical person listed under FOR FURTHER INFORMATION CONTACT.

List of Subjects in 40 CFR Parts 720, 721, 723, and 725

Environmental protection, Chemicals, Hazardous materials, Reporting and recordkeeping requirements.

Dated: July 12, 2023.
Michal Freedhoff,
Assistant Administrator, Office of Chemical Safety and Pollution Prevention.

[FR Doc. 2023-15275 Filed 7-18-23; 8:45 am]

BILLING CODE 6560-50-P